GENERAL SERVICES ADMINISTRATION

[OMB Control No. 3090-0279]

Office of Inspector General; Online Survey of Vendors Using FedBizOpps

AGENCY: Office of Inspector General, (GSA).

ACTION: Notice of a new one-time collection.

SUMMARY: Under the provisions of the Paperwork Reduction Act of 1995 (44 U.S.C. Chapter 35), the General Services Administration (GSA), Office of Inspector General (IG) has submitted to the Office of Management and Budget (OMB) a request for an emergency approval of a new collection regarding the OIG's online vendor survey of FedBizOpps vendors. The survey is being submitted only to vendors who have indicated their desire to do business with the Federal Government by registering to receive email notifications of Federal procurement opportunities from FedBizOpps. Audit results will be reported to GSA.

SUPPLEMENTARY INFORMATION:

A. Purpose

The purpose of the Office of Inspector General's online vendor survey of FedBizOpps vendors is to identify ways of improving the system's functionality, expanding business opportunities, streamlining solicitation posting processes, and to measure vendor ease of use with the features offered by FedBizOpps. Collecting this survey information is required to determine the utility and ease of use of the FedBizOpps portal for posting business opportunities on the http://www.fedbizopps.gov Web site, which replaced the Commerce Business Daily as the Governmentwide point of entry for publicly posting solicitations.

FedBizOpps is to serve as the one-stop gateway to Federal open market procurement solicitations. Agency buyers post business opportunities directly to FedBizOpps and vendors search the Governmentwide postings for possible business opportunities looking at a printed list. Using FedBizOpps, vendors should be able to identify locations of Government solicitations electronically as soon as requests for contract proposals are released to the public. The most reliable source for determining FedBizOpps' effectiveness is the vendor community. This survey is essential to gather system functionality data that is required to evaluate the system's effectiveness.

B. Annual Reporting Burden

Respondents: 46,500.

Responses Per Respondent: 1.

Total Responses: 46,500.

Hours Per Response: 4.9 minutes.

Total Burden Hours: 3,978.

Obtaining Copies of Proposals: Requesters may obtain a copy of the information collection documents from the General Services Administration, Regulatory and Federal Assistance Publications Division (MVA), 1800 F Street, NW., Room 4035, Washington, DC 20405, telephone (202) 208-7312, or by faxing your request to (202) 501-4067. Please cite 3090-0279, Online Survey of Vendors Using FedBizOpps Survey in all correspondence.

Dated: April 17, 2003.
Michael W. Carleton,
Chief Information Officer (I).

[FR Doc. 03-11218 Filed 5-6-03; 8:45 am]

BILLING CODE 6820-24-P